DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before September 11, 2024.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on August 2, 2024.
Donald P. Burger,
Chief, General Approvals and Permits Branch.

Special Permits Data
Application No. | Applicant | Regulation(s) Affected | Nature of the Special Permits thereof
21812-N | PolyPetroChem, LLC | 172.203(a), 178.345-1, 180.413 | To authorize the manufacture, mark, sale, and use of manway assemblies constructed from stabilized polyethylene for installation on certain DOT specification cargo tank motor vehicles used in transporting certain hazardous materials. (mode 1)
21813-N | Norsk, Inc | 172.200 | To authorize the transportation in commerce of lithium batteries exceeding 300 Wh by motor vehicle without shipping papers. (mode 1)
21814-N | Bren-Tronics, Inc | 172.101(j) | To authorize the transportation in commerce of lithium batteries exceeding 35 kg by cargo-only aircraft. (mode 4)
21820-N | Reynolds Systems, Inc | 172.320, 173.54, 173.56, 173.57, 173.58 | To authorize the shipment of new detonators without an EX-approval in a 4-inch x 14-inch schedule 80 seamless steel pipe closed at both ends with 3,000-psi forged steel end caps per ASTM 105 or in a 6-inch x 14-inch schedule 80 seamless steel pipe closed at both ends with iron end caps with a minimum strength of 250 psi. (modes 1, 4)
21821-N | Sandvik, Inc | 172.101(j) | To authorize the transportation in commerce of lithium-ion batteries exceeding 35 kg by cargo-only aircraft. (mode 4)

[FR Doc. 2024-17920 Filed 8-9-24; 8:45 am]

BILLING CODE P